DEPARTMENT OF ENERGY

Federal Energy Regulatory Commission

Combined Notice of Filings

Take notice that the Commission has received the following Natural Gas Pipeline Rate and Refund Report filings:

Filings Instituting Proceedings

Docket Numbers: RP17-808-000.

Applicants: Algonquin Gas Transmission, LLC.

Description: Report Filing: RP17-808 Supplemental Filing.

Filed Date: 10/30/17.

Accession Number: 20171030-5005.

Comments Due: 5 p.m. ET 11/8/17.

Docket Numbers: RP18-70-000.

Applicants: Trunkline Gas Company, LLC.

Description: Compliance filing Annual Interruptible Storage Revenue Credit filed 10-31-17.

Filed Date: 10/30/17.

Accession Number: 20171030-5085.

Comments Due: 5 p.m. ET 11/13/17.

Docket Numbers: RP18-71-000.

Applicants: Trailblazer Pipeline Company LLC.

Description: § 4(d) Rate Filing: Neg Rate 2017-10-30 Morgan Stanley to be effective 11/1/2017.

Filed Date: 10/30/17.

Accession Number: 20171030-5106.

Comments Due: 5 p.m. ET 11/13/17.

Docket Numbers: RP18-72-000.

Applicants: Southern Star Central Gas Pipeline, Inc.

Description: § 4(d) Rate Filing: Vol. 2 Negotiated and Non-Conforming PLS—Tenaska November Amendment to be effective 11/1/2017.

Filed Date: 10/30/17.

Accession Number: 20171030-5135.

Comments Due: 5 p.m. ET 11/13/17.

Docket Numbers: RP18-73-000.

Applicants: Rockies Express Pipeline LLC.

Description: § 4(d) Rate Filing: Neg Rate 2017-10-30 Encana to be effective 10/28/2017.

Filed Date: 10/30/17.

Accession Number: 20171030-5144.

Comments Due: 5 p.m. ET 11/13/17.

Docket Numbers: RP18-74-000.

Applicants: Kern River Gas Transmission Company.

Description: § 4(d) Rate Filing: 2018 P2/AltP2 Rates, 15-Year 2003 Expansion to be effective 5/1/2018.

Filed Date: 10/30/17.

Accession Number: 20171030-5145.

Comments Due: 5 p.m. ET 11/13/17.

Docket Numbers: RP18-75-000.

Applicants: Algonquin Gas Transmission, LLC.

Description: § 4(d) Rate Filing: AGT FRQ 2017 Filing to be effective 12/1/2017.

Filed Date: 10/30/17.

Accession Number: 20171030-5160.

Comments Due: 5 p.m. ET 11/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 31, 2017.
Nathaniel J. Davis, Sr.,
Deputy Secretary.

[FR Doc. 2017-24149 Filed 11-6-17; 8:45 am]

BILLING CODE 6717-01-P